ENVIRONMENTAL PROTECTION AGENCY

40 CFR Part 372

[EPA-HQ-TRI-2022-0262; FRL-2425.1-05-OCSPP]

RIN 2025-AA17

Addition of Diisononyl Phthalate Category; Community Right-to-Know Toxic Chemical Release Reporting; Correction

AGENCY: Environmental Protection Agency (EPA).

ACTION: Correcting amendment.

SUMMARY: The Environmental Protection Agency (EPA or the Agency) is correcting a final rule that appeared in the Federal Register on July 14, 2023, which added a diisononyl phthalates (DINP) category to the list of toxic chemicals subject to the reporting requirements under the Emergency Planning and Community Right-to-Know Act (EPCRA) and the Pollution Prevention Act (PPA). However, the amendment could not be incorporated into the regulation due to an inaccurate amendatory instruction. This document corrects the amendatory instructions.

DATES: Effective on May 2, 2024.

ADDRESSES: The docket for this action, identified by docket identification (ID) number EPA-HQ-TRI-2022-0262, is available at https://www.regulations.gov. Additional instructions on visiting the docket, along with more information about dockets generally, is available at https://www.epa.gov/dockets.

FOR FURTHER INFORMATION CONTACT:

For technical information contact: Rachel Dean, Data Collection Branch, Data Gathering, Management, and Policy Division (Mail code: 7406M), Office of Pollution Prevention and Toxics, Environmental Protection Agency, 1200 Pennsylvania Ave. NW, Washington, DC 20460; telephone number: (202) 566-1303; email address: dean.rachel@epa.gov.

For general information contact: The Emergency Planning and Community Right-to-Know Information Center; telephone number: (800) 424-9346 or (703) 348-5070 in the Washington, DC Area and International; website: https://www.epa.gov//hotlines.

SUPPLEMENTARY INFORMATION:

I. Does this action apply to me?

The Agency included in the July 14, 2023, final rule a list of those who may be potentially affected by this action.

II. What does this correction do?

EPA issued a final rule in the Federal Register on July 14, 2023 (88 FR 45089) (FRL-2425.1-03-OCSPP) which added a diisononyl phthalates (DINP) category to the list of toxic chemicals subject to the reporting requirements under the EPCRA and the PPA. In the final rule's instructions to amend the Code of Federal Regulations (CFR), EPA intended to add the DINP category alphabetically to the list of TRI chemical categories at 40 CFR 372.65(c). However, the list of TRI chemical categories in the CFR at the time had been incorporated as a static image of a table, which introduced formatting challenges with regard to updating 40 CFR 372.65(c) per the amendatory instructions in the DINP category rule because the Agency did not provide a new static image of the table. This document corrects the formatting in Table 3 to paragraph (c) of 40 CFR 372.65(c) by removing the static image of the table and replacing it with a table consisting of text and images of chemicals structures, as applicable.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that notice and public procedure are unnecessary because EPA provided a full opportunity for notice and comment before issuing the final rule that published in the Federal Register on July 14, 2023, and this correction merely corrects the amendatory instructions to ensure that the rule is correctly codified in the CFR. EPA finds that this constitutes good cause under 5 U.S.C. 553(b)(3)(B).

IV. Do any of the statutory and executive order review requirements apply to this action?

No. For a detailed discussion concerning the statutory and executive order review requirements refer to Unit VI. of the final rule issued on July 14, 2023.

V. Congressional Review Act (CRA)

Pursuant to the CRA (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 372

Environmental protection, Community right-to-know, Reporting and recordkeeping requirements, and Toxic chemicals.

Dated: April 24, 2024.
Michal Freedhoff
Assistant Administrator, Office of Chemical Safety and Pollution Prevention.

Therefore, for the reasons set forth in the preamble, EPA is amending 40 CFR part 372 as follows:

PART 372—TOXIC CHEMICAL RELEASE REPORTING: COMMUNITY RIGHT-TO-KNOW

1. The authority citation for part 372 continues to read as follows:

Authority: 42 U.S.C. 11023 and 11048.

2. In § 372.65, amend Table 3 in paragraph (c) to read as follows:

§ 372.65 Chemicals and chemical categories to which this part applies.

* * * * *

(c) * * *

Table 3 to Paragraph (c)

BILLING CODE 6560-50-P

* * * * *

[FR Doc. 2024-09428 Filed 5-1-24; 8:45 am]

BILLING CODE 6560-50-C